FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573.

ACS Logistics USA Inc. (NVO & OFF), 7 Elkridge Way, Manalapan, NJ 07726. Officers: Snejana Pogosyan, Secretary (Qualifying Individual), Daniel Gleeson, President/Secretary. Application Type: Add NVO Service.

Alto Air Freight, Inc. (NVO), 145 Hook Creek Boulevard, Bldg. B6 A, Valley Stream, NY 11581. Officers: Corey R. Morris, Vice President of Ocean management (Qualifying Individual), Andrienne Silver, President. Application Type: QI Change.

Archer Logistics USA LLC (NVO), 6051 Kennedy Boulevard East, PhB, West New York, NJ 07093. Officers: Pape A. Ndoye, President (Qualifying Individual), Papa M. Cisse, Officer. Application Type: New NVO License.

Averitt Express, Inc. (NVO & OFF), 1415 Neal Street, Cookeville, TN 38502-3166. Officers: Charles S. McGee, Vice President International Solutions (Qualifying Individual), Gary D. Sasser, President/CEO. Application Type: QI Change.

Bison International Inc. (NVO & OFF), 2251 Madiera Lane, Buffalo Grove, IL 60089. Officers: Winnie W. Wu, Vice President/Director (Qualifying Individual), Larry Y.R. Wu, President/CEO/Director. Application Type: New NVO & OFF License.

Braid Logistics (North America), Inc. (NVO), 5642 Shirley Lane, Houston, TX 77346. Officers: Michael Ng, Vice President of Marketing & Operations (Qualifying Individual), Shane Watson, CEO. Application Type: QI Change and Name Change.

Capital Transportation Customs Clearance Services, Inc. (NVO & OFF), 6000 NW 97 Avenue, #9-10, Miami, FL 33178. Officers: Manuel G. Viegas, President (Qualifying Individual), Francisco A. Neves, Vice President. Application Type: License Transfer.

Cargo Brokers International, Inc. dba Martainer (NVO & OFF), 107 Forest Parkway, Suite 600, Forest Park, GA 30297. Officers: Carsten O. Steinmetz, Chief Executive Officer (Qualifying Individual), Goetz Steinmetz, President. Application Type: QI Change.

David A. Knott dba DAK Logistics Services (NVO), 1010 Bluejay Drive, Suisun City, CA 94585. Officer: David A. Knott, Owner (Qualifying Individual), Application Type: New NVO License.

Direct Parcel Service, CORP. dba DPS Cargo (NVO & OFF), 7701 NW 46 Street, Doral, FL 33166. Officers: Juan Monagas, Director (Qualifying Individual), Veronica Morales, Director. Application Type: QI Change.

EBM Export Services, LLC (NVO & OFF), 11100 S. Wilcrest Drive, Suite H, Houston, TX 77099. Officer: Benjamin E. Mbonu, Managing Member (Qualifying Individual), Application Type: New NVO & OFF License.

EnLog Strategic Services LLC (NVO & OFF), 363 N Sam Houston Parkway, #1100, Houston, TX 77060. Officers: Tracy Ball, Vice President (Qualifying Individual), Jonathan S. Blankenship, President. Application Type: New NVO & OFF License.

Intercontinental Forwarding USA, Corp. dba Expocoe Corp. (NVO & OFF), 1850 NW 84th Avenue, Suite 100, Doral, FL 33126. Officers: Byron Baez, Vice President (Qualifying Individual), Geovanny N. Coellar, President. Application Type: Trade Name Change.

ITO El Paso, International Transport Organization, Inc. (OFF), 9601 Carnegie Avenue, Suite 100, El Paso, TX 79925. Officers: Fritz Schult, Vice President (Qualifying Individual), George Koenigsmann, President/Director. Application Type: New OFF License.

Montero Express Cargo, Inc. (NVO), 7705 NW 29 Street, Suite 101, Doral, FL 33122. Officers: Enrique A. Montero, President (Qualifying Individual), Ricardo J. Valdez Peguero, Secretary. Application Type: New NVO License.

Movage, Inc. (NVO & OFF), 135 Lincoln Avenue, Bronx, NY 10454. Officers: Traveler Schinz-DeVico, VP, International Sales (Qualifying Individual), Bajo Vujovic, President/Treasurer. Application Type: New NVO & OFF License.

North Star Container, LLC (NVO), 7400 Metro Boulevard, Suite 300, Edina, MN 55439. Officers: Shawn D. Steen, Assistant Vice President (Qualifying Individual), Guohe Mao, CEO. Application Type: QI Change.

Specialty Freight Services, Inc. (NVO & OFF), 2 Poulson Avenue, Essington, PA 19029. Officers: Erin N. Goodwin, Secretary (Qualifying Individual), William J. Colfer, President/Treasurer. Application Type: New NVO & OFF License.

Dated: October 8, 2010.
Karen V. Gregory,
Secretary.

[FR Doc. 2010-25935 Filed 10-14-10; 8:45 am]

BILLING CODE P